DEPARTMENT OF HEALTH AND HUMAN SERVICES

Centers for Disease Control and Prevention

Disease, Disability, and Injury Prevention and Control Special Emphasis Panel (SEP): RFA-DP09-101SUPP09: Health Promotion and Disease Prevention Research Centers: Special Interest Project Competitive Supplements (SIPS) (U48 Panels A-M)

This meeting is for the initial review of applications.

In accordance with Section 10(a)(2) of the Federal Advisory Committee Act (Pub. L. 92-463), the Centers for Disease Control and Prevention (CDC) announces the aforementioned meeting.

Dates and Times:

July 29, 2009, 9 a.m.-5 p.m. Closed.

July 30, 2009, 9 a.m.-5 p.m. Closed.

July 31, 2009, 10 a.m.-4 p.m. Closed.

August 3, 2009, 9 a.m.-5 p.m. Closed.

August 4, 2009, 9 a.m.-5 p.m. Closed.

Place: W Hotel, 3377 Peachtree Road, NE., Atlanta, GA 30326, 770-488-3024 and teleconference.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of the application received in response to “RFA-DP09-101SUPP09: Health Promotion ans Disease Prevention ResearchCenters: Special Interest Project Competitive Supplements (SIPS) (U48Panels A-M).”

For More Information Contact: Brenda Colley Gilbert, PhD, Director, Extramural Research Program Office, CCHP, 4770 Buford Highway, M/S K-92, Atlanta, GA 30341; 770-488-6295.

The Director, Management Analysis and Services Office, has been delegated the authority to sign Federal Register notices pertaining to announcements of meetings and other committee management activities, for both CDC and the Agency for Toxic Substances and Disease Registry.

Dated: July 8, 2009.
Elaine L. Baker,
Director, Management Analysis and Services Office, Centers for Disease Control and Prevention.

[FR Doc. E9-16647 Filed 7-13-09; 8:45 am]

BILLING CODE 4163-18-P